NUCLEAR REGULATORY COMMISSION

10 CFR Parts 2 and 50

RIN 3150-AG38

Antitrust Review Authority: Clarification

AGENCY: Nuclear Regulatory Commission.

ACTION: Proposed rule: Extension of comment period.

SUMMARY: The Nuclear Regulatory Commission (NRC) issued a proposed rulemaking on November 3, 1999 (64 FR 59671), that would clarify its regulations to reflect more clearly its limited antitrust review authority. Because there has been significant interest in the issue and because the comment period included the end-of-year holiday period, the NRC is agreeing to a request from the public to extend the comment period.

DATES: The new comment period will expire on February 15, 2000. Comments received after this date will be considered if it is practical to do so, but the Commission is able to assure consideration only for comments received on or before this date.

ADDRESSES: Written comments should be sent to: Secretary of the Commission, U.S. Nuclear Regulatory Commission, Washington, DC 20555-0001, Attention: Rulemakings and Adjudications Staff.

You may also provide comments via the NRC's interactive rulemaking web site (http://ruleforum.llnl.gov). This site provides the ability to upload comments as files (any format), if your web browser supports that function. For information about the interactive rulemaking web site, contact Ms. Carol Gallagher, 301-415-5905; e-mail CAG@nrc.gov.

Comments received on this rulemaking may be examined at the NRC Public Document Room, 2120 L Street NW. (Lower Level), Washington, DC.

Documents created or received at the NRC after November 1, 1999, are also available electronically at the NRC's Public Electronic Reading Room on the Internet at http://www.nrc.gov/NRC/ADAMS/index.html. From this site, the public can gain entry into the NRC's Agencywide Document Access and Management System (ADAMS), which provides text and image files of NRC's public documents. For more information, contact the NRC Public Document Room (PDR) Reference staff at 202-634-3273 or toll-free at 1-800-397-4209, or by email at pdr@nrc.gov.

FOR FURTHER INFORMATION CONTACT: Jack R. Goldberg, Office of the General Counsel, U.S. Nuclear Regulatory Commission, Washington, DC 20555-0001; telephone 301-415-1681; e-mail JRG1@nrc.gov.

Dated at Rockville, Maryland, this 13th day of January, 2000.
For the Nuclear Regulatory Commission.
Annette L. Vietti-Cook,
Secretary of the Commission.

[FR Doc. 00-1300 Filed 1-20-00; 8:45 am]

BILLING CODE 7590-01-P